DEPARTMENT OF THE TREASURY

Financial Management Service; Senior Executive Service; Combined Performance Review Board (PRB)

AGENCY: Financial Management Service, Treasury Department.

ACTION: Notice of members of Combined Performance Review Board (PRB).

SUMMARY: Pursuant to 5 U.S.C. 4314(c)(4), this notice announces the appointment of members of the Combined PRB for the Financial Management Service, the Bureau of the Public Debt, the U.S. Mint, the Bureau of Engraving and Printing and the Alcohol and Tobacco Tax and Trade Bureau. The Board reviews the performance appraisals of career senior executives below the level of bureau head and principal deputy in the five bureaus, except for executives below the Assistant Commissioner level in the Financial Management Service. The Board makes recommendations regarding proposed performance appraisals, ratings, bonuses and other appropriate personnel actions.

Composition of Combined PRB: The Board shall consist of at least three voting members. In case of an appraisal of a career appointee, more than half of the members shall consist of career appointees. The names and titles of the Combined PRB members are as follows:

Primary Members

Scott H. Johnson, Assistant Commissioner (Management), CFO, FMS.

Jerry Horton, Associate Director, CIO, U.S. Mint.

Joel C. Taub, Associate Director (Management), BEP.

Cynthia Z. Springer, Assistant Commissioner (Office of Information Technology), BPD.

Alternate Members

Judy Tillman, Assistant Commissioner (Regional Operations), FMS.

Marcia Coates, Senior Advisor, Mint.

Gregory D. Carper, Associate Director, CFO, BEP.

John W. Swales, Assistant Commissioner (Office of Securities Operations), BPD.

DATES: This notice of the appointment of individuals to serve on the Combined PRB is effective September 28, 2004.

FOR FURTHER INFORMATION CONTACT: Scott H. Johnson, Assistant Commissioner (Management), CFO, Financial Management Service, 401 14th Street, SW., Room 259, Washington, DC 20227. Telephone number: 202 874-7100.

This notice does not meet the Department's criteria for significant regulations.

Dated: September 21, 2004.
Gavin E. Jackson,
Acting Director of the Human Resources Division, Financial Management Service.

[FR Doc. 04-21623 Filed 9-27-04; 8:45 am]

BILLING CODE 4810-35-M